DEPARTMENT OF THE INTERIOR

Geological Survey

Primary Series Quadrangles; Price Increase

ACTION: Notice of USGS price increase for 1:24,000-scale, 1:25,000-scale and 1:63,360-scale primary series quadrangles.

SUMMARY: The U.S. Geological Survey will increase prices for their 1:24,000-scale, 1:25,000-scale and 1:63,360-scale primary series quadrangles from $4.00 to $6.00 per quadrangle.

Prices for these products were last revised nearly 7 years ago and will be adjusted to accurately reflect and ensure recovery of the costs associated with their reproduction and distribution. These changes are consistent with guidance contained in the Office of Management and Budget (OMB) Circular A-130, concerning management of Federal information resources (Revised Nov. 2000), Circular A-25, establishing Federal policy regarding fees assessed for Government services, which permits government agencies to recover reproduction and distribution costs from the sale of their products.

DATES: The price will increase to $6.00 per quadrangle effective September 1, 2002. All map orders received by or postmarked before September 1, 2002, will be subject to the current price of $4.00 per quadrangle. On August 19, 2002, the U.S. Geological Survey Business Partners will receive a 2-week advance notification of the impending price increase.

FOR FURTHER INFORMATION CONTACT: James Brokaw, Geographic Information Office, (303) 236-5435 or by e-mail at jbrokaw@usgs.gov.

Dated: August 13, 2002.
Karen Siderelis,
Geographic Information Officer.

[FR Doc. 02-21404 Filed 8-21-02; 8:45 am]

BILLING CODE 4310-Y7-M